FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 018793F.

Name: Berr International, Inc.

Address: 8344 NW 30th Terrace, Miami, FL 33122.

Date Revoked: February 17, 2007.

Reason: Failed to maintain a valid bond.

License Number: 003147NF.

Name: Eagle Shipping & Trading Corporation.

Address: 1380 Flatbush Ave., Brooklyn, NY 11210.

Date Revoked: February 17, 2007.

Reason: Failed to maintain valid bonds.

License Number: 002880NF.

Name: Four Stars Forwarding.

Address: Box 26046, San Diego, CA 92196.

Date Revoked: February 15, 2007.

Reason: Surrendered license voluntarily.

License Number: 003973F.

Name: Freight Service Network Inc.

Address: 831-A Foster Ave., Bensenville, IL 60106.

Date Revoked: February 18, 2007.

Reason: Failed to maintain a valid bond.

Sandra L. Kusumoto,
Director, Bureau of Certification and Licensing.

[FR Doc. E7-4094 Filed 3-7-07; 8:45 am]

BILLING CODE 6730-01-P